DEPARTMENT OF ENERGY

Federal Energy Regulatory Commission

[Docket No. RP03-64-000]

Gulf South Pipeline Company, LP; Notice of Proposed Changes in Gas Tariff

November 12, 2002.

Take notice that on November 5, 2002, Gulf South Pipeline Company, LP (Gulf South) tendered for filing as part of its FERC Gas Tariff, Sixth Revised Volume No. 1, the following tariff sheets, to become effective December 5, 2002.

First Revised Sheet No. 301

First Revised Sheet No. 601

First Revised Sheet No. 714

Second Revised Sheet No. 1200

Third Revised Sheet No. 1201

First Revised Sheet No. 1202

First Revised Sheet No. 1203

Original Sheet No. 1204

Original Sheet No. 1205

Original Sheet No. 1206

Reserved Sheet Nos. 1207—1299

Second Revised Sheet No. 1413

Third Revised Sheet No. 1416

Second Revised Sheet No. 2502

First Revised Sheet No. 3605

First Revised Sheet No. 3615

First Revised Sheet No. 3702

Fourth Revised Sheet No. 3706

Third Revised Sheet No. 4000

Gulf South is proposing to revise its credit requirements to enable it to manage the risks inherent in today's marketplace. This proposal establishes clear creditworthy standards, shorter notice periods, and increased security requirements.

Copies of this filing have been served upon Gulf South's customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-29151 Filed 11-18-02; 8:45 am]

BILLING CODE 6717-01-P